DEPARTMENT OF ENERGY

Federal Energy Regulatory Commission

[Docket No. RP03-387-001]

Viking Gas Transmission Company; Notice of Compliance Filing

May 14, 2003.

Take notice that on May 9, 2003, Viking Gas Transmission Company (Viking) tendered for filing to become part of its FERC Gas Tariff, First Revised Volume No. 1, Third Revised Sheet No. 15E, to become effective July 1, 2003.

Viking states that the purpose of this filing is to correct a pagination error on Sheet No. 15E filed on May 1, 2003.

Viking states that copies of this filing have been sent to all of Viking's contracted shippers and interested State regulatory commissions.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: May 21, 2003.

Magalie R. Salas,
Secretary.

[FR Doc. 03-12625 Filed 5-19-03; 8:45 am]

BILLING CODE 6717-01-P